NATIONAL AERONAUTICS AND SPACE ADMINISTRATION

[Notice: 24-070]

Agency Information Collection: NASA Communications Research

AGENCY: National Aeronautics and Space Administration (NASA).

ACTION: Notice of new information collection.

SUMMARY: NASA, as part of its continuing effort to reduce paperwork and respondent burden, under the Paperwork Reduction Act, invites the general public and other Federal agencies to take this opportunity to comment on proposed and/or continuing information collections.

DATES: Comments are due by November 8, 2024.

ADDRESSES: Written comments and recommendations for this information collection should be sent within 30 days of publication of this notice to www.reginfo.gov/public/do/PRAMain. Find this particular information collection by selecting “Currently under 30-day Review-Open for Public Comments” or by using the search function.

FOR FURTHER INFORMATION CONTACT: Requests for additional information or copies of the information collection instrument(s) and instructions should be directed to NASA PRA Clearance Officer, Stayce Hoult, NASA Headquarters, 300 E Street SW, JC0000, Washington, DC 20546, phone 256-714-8575, or email hq-ocio-pra-program@mail.nasa.gov.

SUPPLEMENTARY INFORMATION:

I. Abstract

This information collection supports NASA's efforts to implement the National Aeronautics and Space Act, as amended, 51 U.S.C. 20112(a)(3) to better understand and inform strategies to improve the outcomes in how we “provide for the widest practicable and appropriate dissemination of information concerning its activities and the results thereof.” Through this effort, NASA seeks to collect information that will help best understand the current results of its communications to the American public, and how to apply resources to most efficiently and effectively fulfill that foundational function of NASA. This data collection is part of an effort to have an audience-oriented and data-driven approach to assessing NASA's performance against this mandate in a manner that is objective, standardized, and repeatable.

This information will be used by NASA to measure the American public's knowledge of the agency, its activities, the overall sector and the government's role in it, and how those factors vary across demographics. This type of research is standard in the commercial communications industry. NASA will use the information to adjust its communication strategies and methods, widen dissemination, better reach demographics with low awareness or misinformation, and tailor information to specific appropriate audiences, ensuring more effective and equitable dissemination.

II. Methods of Collection

Web-based, email, and telephone.

III. Data

Title: NASA Communications Research.

OMB Number: 2700-xxxx.

Type of review: New Information Collection.

Affected Public: Individuals in the U.S. Population.

Estimated Annual Number of Activities: 1,500.

Estimated Number of Respondents per Activity: 1.

Annual Responses: 1,500.

Estimated Time per Response: 15 minutes.

Estimated Total Annual Burden Hours: 375 hours.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Stayce Hoult,
PRA Clearance Officer, National Aeronautics and Space Administration.

[FR Doc. 2024-23338 Filed 10-8-24; 8:45 am]

BILLING CODE 7510-13-P